DEPARTMENT OF STATE

[Public Notice: 9818]

Modification of Iran, North Korea, and Syria Nonproliferation Act Measures Against a Russian Entity

SUMMARY: A decision has been made, pursuant to the Iran, North Korea, and Syria Nonproliferation Act, to modify nonproliferation measures pursuant to this Act on a Russian foreign person.

DATES: Effective Date: December 15, 2016.

FOR FURTHER INFORMATION CONTACT: Jeffrey G. McCoy, Office of Euro-Atlantic Security Affairs, Bureau of Arms Control, Verification and Compliance, Department of State, Telephone (202) 647-4940.

SUPPLEMENTARY INFORMATION: On September 2, 2015, the United States Government published a notice announcing the imposition of measures including the following against Rosoboronexport (ROE) (Russia) and any successor, sub-unit, or subsidiary thereof: “No department or agency of the United States Government may procure or enter into any contract for the procurement of any goods, technology, or services from Rosoboronexport (ROE) (Russia) and any successor, sub-unit, or subsidiary thereof, except to the extent that the Secretary of State otherwise may determine. . . .” (See 80 FR 53222, Public Notice 9251; 80 FR 65844, Public Notice 9329; and 80 FR 73865, Public Notice 9358).

On July 5, 2016, the United States Government published a notice announcing the imposition of measures including the following against Rosoboronexport (ROE) (Russia) and any successor, sub-unit, or subsidiary thereof: “No department or agency of the United States Government may procure or enter into any contract for the procurement of any goods, technology, or services from Rosoboronexport (ROE) (Russia) and any successor, sub-unit, or subsidiary thereof, except to the extent that the Secretary of State otherwise may determine. . . .” (See 81 FR 43696, Public Notice 9624).

The United States Government has decided to modify the measures described above against ROE and any successor, sub-unit, or subsidiary thereof as follows: The measures described above shall not apply to United States Government procurement of goods, technology, and services for the purchase, maintenance or sustainment of the Digital Electro Optical Sensor OSDCAM4060, to improve the U.S. ability to monitor and verify Russia's Open Skies Treaty compliance.

Such subcontracts include the purchase of spare parts, supplies, and related services.

This modification does not apply to any other measures imposed pursuant to the INKSNA and announced in Public Notice 9251 published on September 2, 2015 (80 FR 53222) or Public Notice 9624 published on July 5, 2016 (81 FR 43696).

Frank Rose,
Assistant Secretary, Bureau of Arms Control, Verification and Compliance, Department of State.

[FR Doc. 2016-30158 Filed 12-14-16; 8:45 am]

BILLING CODE 4710-35-P